DEPARTMENT OF AGRICULTURE

Forest Service

Madera County Resource Advisory Committee

AGENCY: Forest Service, USDA.

ACTION: Notice of Resource Advisory Committee meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, May 17, 2004. The Madera Resource Advisory Committee will meet at the Spring Valley Elementary School, O'Neals, CA, 93645. The purpose of the meeting is: discussion on how the RAC can be clearer on the actual types of projects wanted, review Holistic Goal & Evaluation Criteria, review Sierra Business Council book and the Arrowhead presentation.

DATES: The Madera Resource Advisory Committee meeting will be held Monday, May 17, 2004. The meeting will be held from 7 p.m. to 9 p.m.

ADDRESSES: The Madera County RAC meeting will be held at the Spring Valley Elementary School, 46655 Road 200, O'Neals, CA, 93645.

FOR FURTHER INFORMATION CONTACT: Dave Martin, U.S.D.A., Sierra National Forest, Bass Lake Ranger District, 57003 Road 225, North Fork, CA, 93643 (559) 877-2218 ext. 3100; e-mail: dmartin05@fs.fed.us.

SUPPLEMENTARY INFORMATION: Agenda items to be covered include: (1) Discussion on how to be clear on the actual types of projects requested from the public, (2) review Holistic Goal & Evaluation Criteria, (3) review of Sierra Business Council book, (4) the Arrowhead presentation. Public input opportunity will be provided and individuals will have the opportunity to address the Committee at that time.

Dated: April 22, 2004.
David W. Martin,
District Ranger, Bass Lake Ranger District.

[FR Doc. 04-9696 Filed 4-28-04; 8:45 am]

BILLING CODE 3410-11-M